Proclamation 7550 of May 1, 2002

Asian/Pacific American Heritage Month, 2002

By the President of the United States of America

A Proclamation

Our Nation's rich cultural diversity reflects our Constitution's core vision of freedom and justice for all. Throughout our history, Asian/Pacific Americans have made great contributions to America's heritage and prosperity. During this month, we proudly celebrate Asian/Pacific Americans, one of the fastest growing ethnic groups in the United States, for their remarkable role in our Nation's development.

Through the years, Asian immigrants and Pacific Islanders have enriched the American way of life. Nobel Prize winner Dr. Subrahmanyan Chandrasekhar's groundbreaking theories on the evolution of stars helped lay the foundation for modern astrophysics. Actress Anna May Wong was one of the first Asian Americans to achieve great fame in American film. And the men of the 100th Infantry Battalion and the 442nd Regimental Combat Team, composed primarily of Asian/Pacific Americans, valiantly served our Nation during World War II. These units are remembered as some of the most highly decorated in U.S. military history.

During the observance of Asian/Pacific American Heritage Month, we celebrate the cultural traditions, ancestry, native languages, and unique experiences represented among the more than 30 ethnic groups from Asia and the Pacific found here in the United States. We also recognize millions of Asian/Pacific Americans whose love of family, hard work, and community has helped unite us as a people and sustain us as a Nation.

To honor the achievements of Asian/Pacific Americans, the Congress, by Public Law 102-450, as amended, has designated the month of May each year as “Asian/Pacific American Heritage Month.”

NOW, THEREFORE, I, GEORGE W. BUSH, President of the United States of America, do hereby proclaim May 2002 as Asian/Pacific American Heritage Month. I call upon our citizens to learn more about the history of Asian/Pacific Americans and how they have contributed so much to our national heritage and culture.

IN WITNESS WHEREOF, I have hereunto set my hand this first day of May, in the year of our Lord two thousand two, and of the Independence of the United States of America the two hundred and twenty-sixth.

B

[FR Doc. 02-11293

Filed 5-3-02; 8:45 am]

Billing code 3195-01-P